DEPARTMENT OF HOUSING AND URBAN DEVELOPMENT

[Docket No. FR-4739-N-14]

Notice of Proposed Information Collection: Comment Request; Information Collection for Regulation of the Federal National Mortgage Association (Fannie Mae) and the Federal Home Loan Mortgage Corporation (Freddie Mac)

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: July 22, 2002.

ADDRESSES: Interested persons are invited to submit comments regarding this proposal. Comments should refer to the proposal by name and/or OMB Control Number and should be sent to: Wayne Eddins, Reports Management Officer, Department of Housing and Urban Development, 451 Seventh Street, SW, L'Infant Plaza Building, Room 8003, Washington, DC 20410; Wayne_Eddins@hud.gov; telephone (202) 708-2374 (this is not a toll free number).

FOR FURTHER INFORMATION CONTACT: Sandra Fostek, Director, Office of Government Sponsored Enterprises Oversight, Department of Housing and Urban Development, 451 Seventh Street SW, Washington, DC 20410, telephone (202) 708-2224 (this is not a toll free number).

SUPPLEMENTARY INFORMATION: The Department is submitted the proposed information collection to OMB review; as required by the Paperwork Reduction Act of 1995 (44 U.S.C. chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Regulation of the Federal National Mortgage Association (Fannie Mae) and the Federal Home Mortgage Corporation (Freddie Mac).

OMB Control Number, if applicable: 2502-0514.

Description of the need for the information and proposed use: HUD's collection of information on Fannie Mae's and Freddie Mac's (collectively referred to as the “GSEs”) business activities is needed to measure and monitor their compliance with statutorily mandated housing goals and other statutory requirements; and to foster a continuing dialogue between HUD, the GSEs, Congress, and the public on the activities of the GSEs with respect to affordable housing and underserved mortgage market issues.

Agency form numbers, if applicable: None.

Estimation of the total numbers of hours needed to prepare the information collection including number of respondents, frequency of response, and hours of response: The estimated number of respondents is 2; the total annual number of responses is about 87; the frequency of the responses are on occasion, quarterly, semi-annually, and annually; and the total annual hours of responses are estimated at 5,632.

Status of the proposed information collection: Extension of a currently approved collection.

Authority: The Paperwork Reduction Act of 1995, 44 U.S.C. chapter 35, as amended.

Dated: May 14, 2002.
John C. Weicher,
Assistant Secretary for Housing-Federal Housing Commissioner.

[FR Doc. 02-12887 Filed 5-22-02; 8:45 am]

BILLING CODE 4210-27-M